DEPARTMENT OF HEALTH AND HUMAN SERVICES

National Institutes of Health

National Institute on Drug Abuse; Notice of Meeting

Pursuant to section 1009 of the Federal Advisory Committee Act, as amended, notice is hereby given of a meeting of the National Advisory Council on Drug Abuse.

This will be a hybrid meeting held in-person and virtually and will be open to the public, as indicated below, with attendance limited to space available. Individuals who plan to attend in-person or view the virtual meeting and need special assistance, such as sign language interpretation or other reasonable accommodations, should notify Dr. Gillian Acca via email at gillian.acca@nih.gov five days in advance of the meeting. The open session of the meeting can be accessed from the NIH Videocast at the following link: https://videocast.nih.gov/.

A portion of the meeting will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Advisory Council on Drug Abuse.

Date: September 11, 2024.

Closed: 10:30 a.m. to 11:45 a.m.

Agenda: To review and evaluate grant applications.

Open: 1:00 p.m. to 5:00 p.m.

Agenda: Presentations and other business of the Council.

Place: Neuroscience Center, Conference Room 1145/1155, National Institutes of Health, 6001 Executive Boulevard, Rockville, MD 20852 (Hybrid Meeting).

Contact Persons:

Susan R.B. Weiss, Ph.D., Director, Division of Extramural Research, Office of the Director, National Institute on Drug Abuse, NIH, Three White Flint North, RM 09D08, 11601 Landsdown Street, Bethesda, MD 20852, 301-443-6480, sweiss@nida.nih.gov.

Gillian Acca, Ph.D., Health Science Policy Analyst, Division of Extramural Research, Office of Extramural Policy, National Institute on Drug Abuse, NIH, Three White Flint North, RM 09C70, 11601 Landsdown Street, Bethesda, MD 20852, 301-827-5863, gillian.acca@nih.gov.

Any interested person may file written comments with the committee by forwarding the statement to Dr. Gillian Acca via email at gillian.acca@nih.gov. The statement should include the name, address, telephone number and when applicable, the business or professional affiliation of the interested person.

In the interest of security, NIH has procedures at https://www.nih.gov/about-nih/visitor-information/campus-access-security for entrance into on-campus and off-campus facilities. All visitor vehicles, including taxicabs, hotel, and airport shuttles will be inspected before being allowed on campus. Visitors attending a meeting on campus or at an off-campus federal facility will be asked to show one form of identification (for example, a government-issued photo ID, driver's license, or passport) and to state the purpose of their visit.

Information is also available on the Institute's/Center's home page: www.drugabuse.gov/NACDA/NACDAHome.html, where an agenda and any additional information for the meeting will be posted when available.

(Catalogue of Federal Domestic Assistance Program Nos. 93.277, Drug Abuse Scientist Development Award for Clinicians, Scientist Development Awards, and Research Scientist Awards; 93.278, Drug Abuse National Research Service Awards for Research Training; 93.279, Drug Abuse and Addiction Research Programs, National Institutes of Health, HHS)

Dated: July 25, 2024.
Lauren A. Fleck,
Program Analyst, Office of Federal Advisory Committee Policy.

[FR Doc. 2024-16814 Filed 7-30-24; 8:45 am]

BILLING CODE 4140-01-P